DEPARTMENT OF JUSTICE

Notice of Filing of Proposed Bankruptcy Stipulation and Agreed Order Under the Oil Pollution Act

On September 25, 2015, the Trustee of the estate of Harbhupinder Bains filed a proposed Stipulation and Agreed Order with the United States Bankruptcy Court for the Southern District of Indiana in the bankruptcy proceedings of Harbhupinder Bains, Chap. 7, Bankruptcy Case No. 11-09462.

On March 18, 2015, the United States filed an administrative expense claim of $600,227.66 in the bankruptcy on behalf of the U.S. Coast Guard (“USCG”), seeking recovery of costs incurred under the Oil Pollution Act (“OPA”) in connection with a removal action on and adjacent to property of the estate in Cloverdale, Indiana (the “Facility”).

Under the Stipulation and Agreed Order, the United States will receive an allowed administrative claim of $300,000 in the bankruptcy case to be satisfied from proceeds that first become available, except that the $300,000 allowed administrative expense claim shall be subordinate to any allowed administrative expense claim of the Trustee for statutory fees, state or federal income taxes payable by the estate, and allowed administrative expense claims for fees and expenses of counsel and accountants for the Trustee. The remainder of the United States' claim amount shall constitute an allowed general unsecured claim in the bankruptcy case.

The Stipulation and Agreed Order provides for a covenant not to sue by the USCG under the OPA against the Trustee or the Debtor's estate for removal costs that the USCG has paid in connection with the Facility.

The publication of this notice opens a period for public comment on the Stipulation and Agreed Order. Comments should be addressed to the Assistant Attorney General, Environment and Natural Resources Division, and should refer to In re Harpubinder Bains, D.J. Ref. No. 90-11-3-11192. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Stipulation and Agreed Order may be examined and downloaded at this Justice Department Web site: http://www.justice.gov/enrd/consent-decrees. We will provide a paper copy of the Stipulation and Agreed Order upon written request and payment of reproduction costs. Please mail your request and payment to: Consent Decree Library, U.S. DOJ—ENRD, P.O. Box 7611, Washington, DC 20044-7611.

Please enclose a check or money order for $2.00 payable to the United States Treasury.

Randall M. Stone,
Acting Assistant Section Chief, Environmental Enforcement Section, Environment and Natural Resources Division.

[FR Doc. 2015-24928 Filed 9-30-15; 8:45 am]

BILLING CODE 4410-15-P